NUCLEAR REGULATORY COMMISSION

[Docket No. 40-6622]

Finding of No Significant Impact and Availability of the Environmental Assessment Regarding the Proposed Changes to the Reclamation Plan for the Pathfinder Mines Corporation's Shirley Basin Site, Shirley Basin Region of Wyoming

I. Introduction

The U.S. Nuclear Regulatory Commission (NRC) is considering an amendment of NRC Source Material License SUA-442 to authorize the licensee, Pathfinder Mines Corporation (PMC), to change the Reclamation Plan for the Shirley Basin uranium mill tailings site located in the Shirley Basin region of Wyoming. PMC requested that NRC approve the proposed changes to the Reclamation Plan by letter dated October 16, 2001, as amended August 9, 2002.

An Environmental Assessment (EA) was performed by the NRC staff in support of its review of PMC's license amendment request, in accordance with the requirements of 10 CFR Part 51. Based on the evaluation, the staff concluded that a Finding of No Significant Impact (FONSI) is appropriate for this licensing action.

II. EA Summary

The EA was prepared to evaluate the environmental impacts of PMC's request to amend NRC license SUA-442, by revising the Reclamation Plan for the Shirley Basis site to allow PMC to do two things. First, in response to recent tailings analysis which showed a significant decrease in source term from what was estimated in the original Reclamation Plan, it would allow PMC to reduce the radon clay barrier thickness from 2.5 feet to .5 feet. The licensee has calculated that with this reduction on thickness, the average radon flux will still be within the required levels and they will confirm this fact by actual measurement. Second, it would allow PMC to create relatively flat vegetated surfaces or benches, with rock protected apron slopes to make the transition between benches. This would provide a reclamation surface covered primarily by vegetated topsoil instead of large expanses of rock. The technical aspects of the application are to be discussed separately in a Technical Evaluation Report (TER) that will accompany the agency's final licensing action.

The results of the staff's evaluation are documented in an EA placed in the Publicly Available Records (PAR) component of NRC's document system (ADAMS).

III. Finding of No Significant Impact

Based on the EA, as summarized above, the staff has concluded that the proposed licensing action would not have any significant effect on the quality of the human environment, and therefore, an environmental impact statement is unnecessary.

IV. Further Information

The EA for this proposed action as well as the licensee's request are available for inspection at the NRC's Public Document Reading Room at http://www.nrc.gov/reading-rm/adams.html (ADAMS Accession Number for licensee request is: ML012980334 (October 16, 2001), ML022310348 (August 8, 2002) and ADAMS Accession Number for the EA is: ML031190198). Documents can also be examined and/or copied for a fee, at the NRC's Public Document Room, located at One White Flint North, 11555 Rockville Pike, Rockville, MD 20852. Any questions with respect to this action should be referred to Michael Raddatz, Fuel Cycle Facilities Branch, Division of Fuel Cycle Safety and Safeguards, Office of Nuclear Material Safety and Safeguards, U.S. Nuclear Regulatory Commission, Mail Stop T8-A33, Washington DC 20555-0001. Telephone (301) 415-6334.

Dated at Rockville, Maryland, this 30th day of April, 2003.
For the U.S. Nuclear Regulatory Commission.
Susan M. Frant,
Chief, Fuel Cycle Facilities Branch, Division of Fuel Cycle Safety and Safeguards, Office of Nuclear Material Safety and Safeguards.

[FR Doc. 03-11527 Filed 5-8-03; 8:45 am]

BILLING CODE 7590-01-P